DEPARTMENT OF DEFENSE

Office of the Secretary

[Docket ID: DoD-2022-OS-0116]

Proposed Collection; Comment Request

AGENCY: Office of the Under Secretary of Defense for Policy, Department of Defense (DoD).

ACTION: 60-Day information collection notice.

SUMMARY: In compliance with the Paperwork Reduction Act of 1995, and as directed by the National Defense Authorization Act for Fiscal Year 2022, the Under Secretary of Defense for Policy announces a proposed public information collection and seeks public comment on the provisions thereof. Comments are invited on this statutory collection requirement as to: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 12, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela Duncan at the Department of Defense, Washington Headquarters Services, ATTN: Executive Services Directorate, Directives Division, 4800 Mark Center Drive, Suite 03F09-09, Alexandria, VA 22350-3100 or call 571-372-7574.

SUPPLEMENTARY INFORMATION:

Title; Associated Form; and OMB Number: Anomalous Health Incidents Secure Reporting Tool; OMB Control Number 0704-AHIT.

Needs and Uses: As directed by Section 6603 (d) of the National Defense Authorization Act for Fiscal Year 2022, the DoD is directed to develop a process to provide a secure mechanism for personnel to self-report any suspected exposure that could be an anomalous health incident (AHI). The respondents to the AHI Secure Reporting Tool are military service members, DoD civilian employees, contractors, and any DoD family member who may have encountered an AHI. The secure reporting tool is a web based application that will provide DoD affiliated individuals affected by an AHI a secure self-reporting mechanism, through a DoD.gov website, that will trigger an appropriate DoD response for medical care and investigation requirements.

Affected Public: Individuals or households.

Annual Burden Hours: 50 hours.

Number of Respondents: 100.

Responses per Respondent: 1.

Annual Responses: 100.

Average Burden per Response: 30 minutes.

Frequency: 1.

Dated: October 6, 2022.
Kayyonne T. Marston,
Alternate OSD Federal Register Liaison Officer, Department of Defense.

[FR Doc. 2022-22147 Filed 10-11-22; 8:45 am]

BILLING CODE 5001-06-P